DEPARTMENT OF THE INTERIOR

National Park Service

[NPS-WASO-NAGPRA-NPS0034374; PPWOCRADN0-PCU00RP14.R50000]

Notice of Inventory Completion: U.S. Department of Defense, Defense Health Agency, National Museum of Health and Medicine, Silver Spring, MD

AGENCY: National Park Service, Interior.

ACTION: Notice.

SUMMARY: The U.S. Department of Defense, Defense Health Agency, National Museum of Health and Medicine has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the National Museum of Health and Medicine. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the National Museum of Health and Medicine at the address in this notice by September 19, 2022.

FOR FURTHER INFORMATION CONTACT: Mr. Brian F. Spatola, Curator of Anatomical Division, National Museum of Health and Medicine, U.S. Army Garrison Forest Glen, 2500 Linden Lane, Silver Spring, MD 20910, telephone (301) 319-3353, email brian.f.spatola.civ@mail.mil.

SUPPLEMENTARY INFORMATION: Notice is here given in accordance with the Native American Graves Protection and Repatriation Act (NAGPRA), 25 U.S.C. 3003, of the completion of an inventory of human remains under the control of the U.S. Department of Defense, Defense Health Agency, National Museum of Health and Medicine, Silver Spring, MD. The human remains were removed from San Nicolas Island, Ventura County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the National Museum of Health and Medicine professional staff in consultation with representatives of the La Jolla Band of Luiseno Indians, California (previously listed as La Jolla Band of Luiseno Mission Indians of the La Jolla Reservation); Pala Band of Mission Indians (previously listed as Pala Band of Luiseno Mission Indians of the Pala Reservation, California); Pauma Band of Luiseno Mission Indians of the Pauma & Yuima Reservation, California; Pechanga Band of Indians (previously listed as Pechanga Band of Luiseno Mission Indians of the Pechanga Reservation, California); Rincon Band of Luiseno Mission Indians of Rincon Reservation, California; Santa Ynez Band of Chumash Mission Indians of the Santa Ynez Reservation, California; and the Soboba Band of Luiseno Indians, California (hereafter referred to as “The Tribes”).

History and Description of the Remains

In 1889, human remains representing, at minimum, one individual were removed from San Nicolas Island in Ventura County, CA. The human remains were removed by amateur archeologist Reverend Stephen Bowers and donated to the Army Medical Museum (today the National Museum of Health and Medicine) by Reverend Bowers on March 10, 1890, through Lieutenant Colonel J. R. Smith, U.S. Army, Medical Department. The human remains consist of the mandible belonging to an adult of indeterminate age with antemortem tooth loss. No known individual was identified. No associated funerary objects are present.

The human remains are Native American based on archeological, biological, and geographical evidence. Descendants of the original inhabitants of San Nicolas Island are found today among the Bands of the Payómkawichum (“Luiseño”) Tribe and the Santa Ynez Band of Chumash Mission Indians of the Santa Ynez Reservation, California.

Determinations Made by the U.S. Department of Defense, Defense Health Agency, National Museum of Health and Medicine

Officials of the U.S. Department of Defense, Defense Health Agency, National Museum of Health and Medicine have determined that:

• Pursuant to 25 U.S.C. 3001(9), the human remains described in this notice represent the physical remains of one individual of Native American ancestry.

• Pursuant to 25 U.S.C. 3001(2), there is a relationship of shared group identity that can be reasonably traced between the Native American human remains and The Tribes.

Additional Requestors and Disposition

Lineal descendants or representatives of any Indian Tribe or Native Hawaiian organization not identified in this notice that wish to request transfer of control of these human remains should submit a written request with information in support of the request to Mr. Brian F. Spatola, Curator of Anatomical Division, National Museum of Health and Medicine, U.S. Army Garrison Forest Glen, 2500 Linden Lane, Silver Spring, MD 20910, telephone (301) 319-3353, email brian.f.spatola.civ@mail.mil, by September 19, 2022. After that date, if no additional requestors have come forward, transfer of control of the human remains to The Tribes may proceed.

The U.S. Department of Defense, Defense Health Agency, National Museum of Health and Medicine is responsible for notifying The Tribes that this notice has been published.

Dated: August 10, 2022.
Melanie O'Brien,
Manager, National NAGPRA Program.

[FR Doc. 2022-17770 Filed 8-17-22; 8:45 am]

BILLING CODE 4312-52-P